DEPARTMENT OF COMMERCE

Foreign-Trade Zones Board

[B-51-2022]

Foreign-Trade Zone 39—Dallas/Fort Worth, Texas, Application for Reorganization and Expansion Under Alternative Site Framework

An application has been submitted to the Foreign-Trade Zones (FTZ) Board by the Dallas/Fort Worth international Airport Board, grantee of Foreign-Trade Zone 39, requesting authority to reorganize the zone to expand its service area and to include a new usage-driven site under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on November 15, 2022.

FTZ 39 was approved by the FTZ Board on August 17, 1978 (Board Order 133, 43 FR 37478, August 23, 1978), reorganized under the ASF on January 15, 2010 (Board Order 1660, 75 FR 4355, January 27, 2010), and expanded the ASF service area on May 16, 2014 (Board Order 1939, 79 FR 30079, May 27, 2014). The zone currently has a service area that includes Dallas, Tarrant, Kaufman, Collin, Grayson, Denton and Hunt Counties, Texas.

The applicant is now requesting authority to expand the service area of the zone to include Hill County, as described in the application. If approved, the grantee would be able to serve sites throughout the expanded service area based on companies' needs for FTZ designation. The application indicates that the proposed expanded service area is adjacent to the Dallas/Fort Worth Customs and Border Protection Port of Entry.

The applicant is also requesting to expand its zone to include an additional usage-driven site: Proposed Site 34 (127 acres)—Frontier Support Logistics facilities located at 201, 350, 401 and 788 Industrial Loop Boulevard in Hillsboro, Hill County.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is January 20, 2023. Rebuttal comments in response to material submitted during the foregoing period may be submitted during the subsequent 15-day period to February 6, 2023.

A copy of the application will be available for public inspection in the “Online FTZ Information Section” section of the FTZ Board's website, which is accessible via www.trade.gov/ftz. For further information, contact Camille Evans at Camille.Evans@trade.gov.

Dated: November 15, 2022.
Andrew McGilvray,
Executive Secretary.

[FR Doc. 2022-25268 Filed 11-18-22; 8:45 am]

BILLING CODE 3510-DS-P